DEPARTMENT OF JUSTICE

Drug Enforcement Administration

Ronald A. Green, M.D.; Decision and Order

On February 6, 2015, the Deputy Assistant Administrator, Office of Diversion Control, Drug Enforcement Administration, issued an Order to Show Cause to Ronald A. Green, M.D. (Registrant), of Houston, Texas. GX 1. The Show Cause Order proposed the revocation of Registrant's DEA Certificate of Registration FG1729699, pursuant to which he is authorized to dispense controlled substances in schedules II through V as a practitioner, as well as the denial of any pending applications to renew or modify his registration, on the ground that he does not “have authority to handle controlled substances in” Texas, “the State in which [he is] registered with the DEA.” Id.

The Show Cause Order specifically alleged that on December 10, 2014, the Disciplinary Panel of the Texas Medical Board (TMB) issued an Order of Temporary Suspension, which suspended his medical license the same day. Id. The Show Cause Order further alleged that as a consequence of the Board's order, Registrant is currently without authority to handle controlled substances in Texas, the State in which he holds his DEA registration.¹ Id.

¹ The Show Cause Order also informed Registrant of his right to request a hearing on the allegations or to submit a written statement of position on the matters alleged in the Order while waiving his right to a hearing, the procedure for electing either option, and the consequence of failing to elect either option. GX 1, at 1-2 (citing 21 CFR 1301.43).

On February 11, 2015, a DEA Diversion Investigator (DI) initially attempted to personally serve Registrant by travelling to his registered location. GX 4, at 1. However, the DI found that his practice was closed and was told by employees of a bank located across the hall that no one had seen Registrant recently. Id. Thereafter, the DI obtained the address of Registrant's residence from the Texas Department of Public Safety and on February 17, went to his residence. Id. at 2. The DI rang the doorbell and knocked on the door several times but received no response. Id. The DI then slid a copy of the Show Cause Order under the front door. Id.

Three months later (on May 20, 2015), the Office of Administrative Law Judges received a fax from Registrant which included a document entitled “Response to First Amended Complaint and Motion to Dismiss,” which he apparently filed in the proceeding brought against him by the Texas Medical Board. Registrant did not, however, request a hearing on the Show Cause Order. See 21 CFR 1301.43(a) & (d). Moreover, to the extent Registrant submitted this document as his statement of position, see id. § 1301.43(c), his filing does not contain any explanation for why good cause exists to excuse its untimeliness. Id. §§ 1301.43(d), 1316.47(b).

In the meantime, on April 7, 2015, the Government submitted a Request for Final Agency Action along with the investigative record, which it subsequently supplemented by providing a copy of Registrant's filing with the Office of Administrative Law Judges. In its Request, the Government asserts that Registrant has waived his right to a hearing. Request for Final Agency Action, at 4.

Based on my review of the record, I find that Registrant was properly served with the Show Cause Order. I further find that Registrant has waived his right to a hearing, as well as his right to submit a statement of position on the allegations of the Show Cause Order. Id. § 1301.44(d). I make the following findings.

Findings

Registrant is the holder of DEA Certificate of Registration FG1729699, pursuant to which he is authorized to dispense controlled substances in schedules II through V as a practitioner, at the registered address of: Paradigm Center for Integrative Medicine, 7505 Fannin, Suite 120, Houston, TX 77054. GX 2. This registration is due to expire on September 30, 2015. Id.

On December 10, 2014, a Disciplinary Panel of the TMB issued an Order of Temporary Suspension, which suspended Registrant's medical license, based upon its finding that Registrant's “continuation in the practice of medicine would constitute a continuing threat to public welfare.” GX 3, at 3, 5.² According to the TMB's Web site, the Order remains in effect as of this date. See http://reg.tmb.state.tx.us/OnLineVerif/Phys_ReportVerif_new.asp. Accordingly, I find that Registrant is currently without authority under the laws of the State of Texas to dispense controlled substances.

² The TMB's Order contains numerous conclusions of law based on Registrant's violations of the Texas Medical Practice Act, including that he prescribed, administered, or dispensed controlled substance for non-therapeutic purposes and “in a manner inconsistent” with the Controlled Substances Act and Texas law, that he failed to comply with the Board's regulations regarding the operation of pain management clinics, that he failed to adhere to guidelines and requirements for the treatment of pain, and that he wrote prescriptions for known abusers of narcotics. GX 3, at 3-5.

Discussion

The Controlled Substances Act (CSA) grants the Attorney General authority to revoke a registration “upon a finding that the registrant . . . has had his State license or registration suspended [or] revoked . . . and is no longer authorized by State law to engage in the . . . distribution [or] dispensing of controlled substances.” 21 U.S.C. 824(a)(3). Based on the CSA's provisions which define the term “practitioner” and set forth the requirement for obtaining a registration as such, DEA has long held that a practitioner must be currently authorized to handle controlled substances in the “jurisdiction in which he practices” in order to maintain a DEA registration. See 21 U.S.C. 802(21)(“The term `practitioner' means a physician . . . or other person licensed, registered or otherwise permitted, by . . . the jurisdiction in which he practices . . . to distribute, dispense, [or] administer . . . a controlled substance in the course of professional practice.”); see also id. § 823(f) (“The Attorney General shall register practitioners . . . to dispense . . . if the applicant is authorized to dispense . . . controlled substances under the laws of the State in which he practices.”).

As these provisions make plain, possessing authority under state law to dispense controlled substances is an essential condition for holding a DEA registration. See David W. Wang, 72 FR 54297, 54298 (2007); Sheran Arden Yeates, 71 FR 39130, 39131 (2006); Dominick A. Ricci, 58 FR 51104, 51105 (1993); Bobby Watts, 53 FR 11919, 11920 (1988). And based on these provisions, the Agency has also “held that revocation is warranted even where a practitioner's state authority has been summarily suspended and the State has yet to provide the practitioner with a hearing to challenge the State's action at which he . . . may ultimately prevail.” Kamal Tiwari, 76 FR 71604, 71606 (2011) (citing cases).

Here, the evidence shows that Registrant's medical license has been suspended by the Texas Medical Board. I therefore hold that Registrant no longer holds authority under the laws of Texas, the State in which he is registered, to dispense controlled substances and that therefore, he is not entitled to maintain his DEA registration. See 21 U.S.C. 802(21), 823(f), 824(a)(3). Accordingly, I will order that his registration be revoked.

Order

Pursuant to the authority vested in me by 21 U.S.C. 823(f) and 824(a), as well as 28 CFR 0.100(b), I order that DEA Certificate of Registration FG1729699 issued to Ronald A. Green, M.D., be, and it hereby is, revoked. I further order that any application of Ronald A. Green, M.D., to renew or modify his registration, be, and it hereby is, denied. This Order is effective immediately.³

³ Based on the findings of fact and conclusions of law which led the TMB to concluded that Registrant's “continuation in the practice of medicine would constitute a continuing threat to public welfare,” GX 3, at 3; I conclude that the public interest requires that this Order be effective immediately. See 21 CFR 1316.67.

Dated: August 10, 2015.
Chuck Rosenberg,
Acting Administrator.

[FR Doc. 2015-20349 Filed 8-17-15; 8:45 am]

BILLING CODE 4410-09-P